DEPARTMENT OF THE TREASURY

Submission for OMB Review; Comment Request

January 9, 2002.

The Department of the Treasury has submitted the following public information collection requirement(s) to OMB for review and clearance under the Paperwork Reduction Act of 1995, Public Law 104-13. Copies of the submission(s) may be obtained by calling the Treasury Bureau Clearance Officer listed. Comments regarding this information collection should be addressed to the OMB reviewer listed and to the Treasury Department Clearance Officer, Department of the Treasury, Room 2110, 1425 New York Avenue, NW., Washington, DC 20220.

DATES: Written comments should be received on or before February 19, 2002 to be assured of consideration.

Internal Revenue Service (IRS)

OMB Number: 1545-1423.

Regulation Project Number: PS-106-91 Final.

Type of Review: Extension.

Title: State Housing Credit Ceiling and other Rules Relating to the Low-Income Housing Credit.

Description: The regulations provide the order in which credits are allocated from each State's credit ceiling under section 42(h)(3)(C) and the determination of which states qualify for credits from a National Pool and of credits under section 42(h)(3)(D). Allocating agencies need this information to correctly allocate credits and determine National Poole eligibility.

Respondents: Business or other for-profit, Individuals or households, Not-for-profit institutions, State, Local or Tribal Government.

Estimated Number of Respondents: 110.

Estimated Burden Hours Per Respondent: 2 hours, 30 minutes.

Frequency of Response: Other (One time per event).

Estimated Total Reporting Burden: 275 hours.

OMB Number: 1545-1624.

Notice Number: Notice 98-52.

Type of Review: Extension.

Title: Cash or Deferred Arrangements; Nondiscrimination.

Description: Section 1433(a) of the Small Business Job Protection Act of 1966 requires that the Service provide nondiscriminatory safe harbors with respect to section 401(k)(12) and section 401(m)(11) for plan years beginning after December 31, 1998. This notice implements that statutory requirement.

Respondents: Business or other for-profit, Not-for-profit institutions.

Estimated Number of Respondents: 60,000.

Estimated Burden Hours Per Respondent: 1 hour, 20 minutes.

Frequency of Response: On occasion.

Estimated Total Reporting Burden: 80,000 hours.

Clearance Officer: George Freeland, Internal Revenue Service, Room 5577, 1111 Constitution Avenue, NW., Washington, DC 20224.

OMB Reviewer: Alexander T. Hunt (202) 395-7860, Office of Management and Budget, Room 10202, New Executive Office Building, Washington, DC 20503.

Lois K. Holland,
Department Reports Management Officer.

[FR Doc. 02-1208 Filed 1-16-02; 8:45 am]

BILLING CODE 4830-01-M